FEDERAL COMMUNICATIONS COMMISSION

47 CFR Part 73

[DA 00-2605; MM Docket No. 00-113; RM-9904; 9952]

Radio Broadcasting Services; Randolph and Little Valley, NY

AGENCY: Federal Communications Commission.

ACTION: Final rule.

SUMMARY: The Commission, at the request of New Testament Christian Ministries and Little Valley Wireless, allots Channel 290A to Little Valley, NY, as the community's first local aural service. The Commission also dismisses the request of New Testament Christian Ministries to allot Channel 290A to Randolph, NY, as its first local aural service. See 65 FR 47370, August 2, 2000. Channel 290A can be allotted to Little Valley in compliance with the Commission's minimum distance separation requirements, with respect to all domestic allotments, without the imposition of a site restriction, at coordinates 42-15-08 NL; 78-48-20. A filing window for Channel 290A at Little Valley will not be opened at this time. Instead, the issue of opening a filing window for this channel will be addressed by the Commission in a subsequent order. See Supplementary Information.

DATES: Effective January 2, 2001.

FOR FURTHER INFORMATION CONTACT: Leslie K. Shapiro, Mass Media Bureau, (202) 418-2180.

SUPPLEMENTARY INFORMATION: This is a synopsis of the Commission's Report and Order, MM Docket No. 00-113, adopted November 8, 2000, and released November 17, 2000. The full text of this Commission decision is available for inspection and copying during normal business hours in the FCC Reference Center (Room 239), 445 12th Street, SW., Washington, DC. The complete text of this decision may also be purchased from the Commission's copy contractor, International Transcription Services, Inc., (202) 857-3800, 1231 20th Street, NW., Washington, DC 20036.

Channel 290A can be allotted to Little Valley in compliance with the Commission's minimum distance separation requirements, with respect to all domestic allotments, without the imposition of a site restriction, at coordinates 42-15-08 NL; 78-48-20. The allotment, however, is short-spaced to Station CHRE-FM, Channel 289B, St. Catherines, Ontario, Canada. Canadian concurrence, as a specially-negotiated short-spaced allotment was requested in September, 2000, but has not yet been received. Little Valley is located within 320 kilometers (200 miles) of the U.S.-Canadian border. However, rather than delay any further the opportunity to file applications for this channel, we will allot Channel 290A to Little Valley at this time. If a construction permit is granted prior to the receipt of formal concurrence in the allotment by the Canadian Government, the construction permit will include the following condition: “Operation with the facilities specified herein is subject to modification, suspension, or termination without right to hearing, if found by the Commission to be necessary in order to conform to the USA-Canadian FM Broadcast Agreement.”

List of Subjects in 47 CFR Part 73

Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under New York, is amended by adding Little Valley, Channel 290A.

Federal Communications Commission.
John A. Karousos,
Chief, Allocations Branch, Policy and Rules Division, Mass Media Bureau.

[FR Doc. 00-30504 Filed 11-29-00; 8:45 am]

BILLING CODE 6712-01-P